ENVIRONMENTAL PROTECTION AGENCY

[FRL-7445-6]

Notice of Availability of Enforcement and Compliance History Online Web Site for 60-Day Comment Period; Extension

AGENCY: Environmental Protection Agency (EPA).

ACTION: Notice of extension of original comment period.

SUMMARY: The Office of Compliance (OC), within EPA's Office of Enforcement and Compliance Assurance (OECA), announces an extension of the comment period from the originally scheduled deadline of January 21, 2003, to March 31, 2003, for its pilot Web site, Enforcement and Compliance History Online (ECHO), which contains searchable, facility-level enforcement and compliance information.

DATES: Comments must be submitted no later than March 31, 2003.

ADDRESSES: The Web site is available at http://www.epa.gov/echo. Comments may be submitted to echo@epa.gov as a Word or WordPerfect file or mailed to Rebecca Kane, Environmental Protection Agency, Office of Enforcement and Compliance Assurance, MC 2222A, 1200 Pennsylvania Avenue NW., Washington, DC, 20460. Specific data errors should be submitted using the error correction process on the ECHO site.

FOR FURTHER INFORMATION CONTACT: Rebecca Kane at kane.rebecca@epa.gov or (202) 564-5960.

SUPPLEMENTARY INFORMATION: Due to several requests from stakeholders, EPA has extended ECHO's comment period, which was scheduled to end on January 21, 2003, to March 31, 2003. The site's availability and comment period were announced in the Federal Register on November 20, 2002. The original notice, a link to which is posted on the ECHO site, provides detailed information on ECHO and specific questions for consideration.

Dated: January 21, 2003.
Michael M. Stahl,
Director, Office of Compliance.

[FR Doc. 03-2177 Filed 1-29-03; 8:45 am]

BILLING CODE 6560-50-P